DEPARTMENT OF AGRICULTURE

Forest Service

Madera County Resource Advisory Committee

AGENCY: Forest Service, USDA.

ACTION: Notice of Resource Advisory Committee Meeting.

SUMMARY: Pursuant to the authorities in the Federal Advisory Committee Act of 1972 (Pub. L. 92-463) and under the secure Rural Schools and Community Self-Determination Act of 2000 (Pub. L. 106-393) the Sierra National Forest's Resource Advisory Committee for Madera County met on Monday, August 13, 2007. The Madera Resource Advisory Committee met at the Forest Service Office, North Fork, CA 93643. The purpose of the meeting was: Agree on parameters for accepting solicitations for Title II funding for FY 2007 and set a date for the final meeting when proposals will be approved for recommendation to the Forest Supervisor. The primary discussion revolved around what types of projects the RAC would be willing to entertain for this round of funding. Due to the extremely short turn-around time and the difficulty of a new extensive solicitation, what will be considered was brought into a very narrow focus.

The following were generally agreed-to by unanimous consent as projects that would be considered for funding:

Invasive Weed Management—submitted through the Coarsegold RCD, similar proposal and $$ as last year;

High Sierra Volunteer Trail Crew—Submitted through the same group/Shane Krogan, similar proposal and $$ as last year;

Goat Mountain Fuelbreak—Submitted through the Coarsegold RCD, would consider funding the balance of funding needed from last year but was cut. Estimated at $10,000 to $15,000;

Forest Service Fuel Hazard reduction in Cedar Valley—Submitted through the Forest Service as an adjunct to the Cedar Valley Project. Primarily directed at road hazard reduction clearing on either side of the Cedar Valley Road;

Planning for the San Joaquin Trail project—Submitted through the San Joaquin River Trail Council, estimated at $10,000-$15,000. This planning will allow the expenditure of another $40,000 of existing funding to finish the last trail segment between Millerton Lake and the Mammoth trailhead;

Kinsman Fuel Hazard—Submitted through the USFS. Completion of fuel hazard reduction around Kinsman Flat private land.

Dave agreed to contact prospective project proponents ASAP and get completed proposals out to RAC members 1-2 weeks prior to the meeting on September 10.

DATE: The final Madera Resource Advisory Committee meeting will be held Monday, September 10, 2007. The meeting will be held from 7 p.m. to 9 p.m.

ADDRESSES: The Madera County RAC meeting will be held at the Forest Service Office, 57003 Road 225, North Fork, CA 93644.

FOR FURTHER INFORMATION CONTACT: Dave Martin, U.S.D.A., Sierra National Forest, Bass Lake Ranger District, 57003 Road 225, North Fork, CA 93643 (559) 877-2218 ext. 3100; e-mail: dmartin05@fs.fed.us.

SUPPLEMENTARY INFORMATION: The final RAC meeting on September 10 will be held to make recommendations for project proposals requested at the August 13 meeting.

Dated: August 29, 2007.
David W. Martin,
District Ranger, Bass Lake Ranger District.

[FR Doc. 07-4346 Filed 9-5-07; 8:45 am]

BILLING CODE 3410-11-M